DEPARTMENT OF TRANSPORTATION

Coast Guard

33 CFR Part 117

[CGD07-02-127]

Drawbridge Operation Regulations; Florida East Coast Railroad Bridge, St. Johns River, Jacksonville, FL

AGENCY: Coast Guard, DOT.

ACTION: Notice of temporary deviation from regulations.

SUMMARY: The Commander, Seventh Coast Guard District, has approved a temporary deviation from the regulations governing the operation of the Florida East Coast Railroad Bridge across the St. Johns River, mile 24.9, Jacksonville, Florida. This deviation allows the bridge to remain in the closed position from 11 p.m. until 7 a.m. each day from October 27, 2002 until November 2, 2002, for emergency repairs.

DATES: This deviation is effective from 11 p.m. on October 27 until 7 a.m. on November 2, 2002.

ADDRESSES: Material received from the public, as well as documents indicated in this preamble as being available in the docket [CGD07-02-127] will become part of this docket and will be available for inspection or copying at Commander (obr), Seventh Coast Guard District, 909 S.E. 1st Avenue, Miami, FL 33131 between 7:30 a.m. and 4 p.m., Monday through Friday, except Federal holidays.

FOR FURTHER INFORMATION CONTACT: Mr. Barry Dragon, Project Officer, Seventh Coast Guard District, Bridge Branch at (305) 415-6743.

SUPPLEMENTARY INFORMATION: The Florida East Coast Railroad Bridge across the St. Johns River, Jacksonville, Florida, is a single leaf bascule bridge with a vertical clearance of 9 feet above mean high water (MHW) measured at the fenders in the closed position with a horizontal clearance of 195 feet. The current operating regulation in 33 CFR 117.325(c) requires that: (1) The bridge be constantly tended and have a mechanical override capability for the automated operation. A radiotelephone must be maintained at the bridge for the safety of navigation. (2) The draw is normally in the fully open position, displaying flashing green lights to indicate that vessels may pass. (3) When a train approaches, large signs on both the upstream and downstream sides of the bridge flash “Bridge Coming Down,” the lights go to flashing red, and siren signals sound. After an eight minute delay, the draw lowers and locks if there are no vessels under the draw. The draw remains down for a period of eight minutes or while the approach track circuit is occupied. (4) After the train has cleared, the draw opens and the lights return to flashing green.

On October 9, 2002, the bridge owner, Florida East Coast Railroad, requested a deviation from the current operating regulations to allow the owner and operator to keep this bridge in the closed position during certain times each day to facilitate emergency repairs. The Commander, Seventh Coast Guard District has granted a temporary deviation from the operating requirements listed in 33 CFR 117.325(c) to complete emergency repairs to the bridge. Under this deviation the Florida East Coast Railroad Bridge, across the St. Johns River, mile 24.9, Jacksonville, FL, need not open from 11 p.m. until 7 a.m., each day, from October 27, 2002 until November 3, 2002.

Dated: October 16, 2002.
Greg Shapley,
Chief, Bridge Administration, Seventh Coast Guard District.

[FR Doc. 02-27031 Filed 10-22-02; 8:45 am]

BILLING CODE 4910-15-P